FEDERAL COMMUNICATIONS COMMISSION

47 CFR Parts 15 and 76

[DA 03-3848]

Editorial Modification of the Commission's Rules

AGENCY: Federal Communications Commission.

ACTION: Final rule.

SUMMARY: This document provides a more efficiently organized presentation of the various materials, e.g., standards, specifications, and similar documents that are referenced in the regulations for radio frequency devices and multichannel video and cable television services in the rules, certain administrative revisions are necessary to those rules.

DATES: Effective January 21, 2004.

FOR FURTHER INFORMATION CONTACT: Alan Stillwell, Office of Engineering and Technology, (202) 418-2925.

SUPPLEMENTARY INFORMATION: This is a summary of the Commission's Order, DA 03-3848, adopted December 4, 2003 and released December 5, 2003. The full text of this document is available on the Commission's Internet site at http://www.fcc.gov. It is also available for inspection and copying during regular business hours in the FCC Reference Center (Room CY-A257), 445 12th Street., SW., Washington, DC 20554. The full text of this document also may be purchased from the Commission's duplication contractor, Qualex International, Portals II, 445 12th St., SW., Room CY-B402, Washington, DC 20554; telephone (202) 863-2893; fax (202) 863-2898; e-mail qualexint@aol.com.

Summary of the Order

1. In order to provide a more efficiently organized presentation of the various materials, e.g., standards, specifications, and similar documents that are referenced in the regulations for radio frequency devices in part 15 of the rules and in the regulations for multichannel video and cable television services in part 76 of the rules, certain administrative revisions are necessary to those rules.

2. Authority for adoption of the foregoing revisions is contained in 47 CFR 0.231(b).

3. The amendments adopted pertain to agency organization, procedure, and practice. Consequently, the notice and comment provisions of the Administrative Procedure Act, contained in 5 U.S.C. 553(b), are inapplicable.

Ordering Clauses

4. Accordingly, it is ordered that parts 15 and 76 of the Commission's rules, set forth in Title 47 of the Code of Federal Regulations, are amended, effective January 21, 2004.

List of Subjects in 47 CFR Parts 15 and 76

Cable television, Incorporation by reference, Television.

Federal Communications Commission.
Marlene H. Dortch,
Secretary.

Rule Changes

For the reasons discussed in the preamble, the Federal Communications Commission amends 47 CFR parts 15 and 76 to read as follows:

PART 15—RADIO FREQUENCY DEVICES

1. The authority for part 15 is revised to read as follows:

Authority: 47 U.S.C. 154, 302a, 303, 304, 307, 336, and 544a.

2. Section 15.109 is amended by revising the introductory text of paragraph (g) to read as follows:

§ 15.109 Radiated emission limits.

* * * * *

(g) As an alternative to the radiated emission limits shown in paragraphs (a) and (b) of this section, digital devices may be shown to comply with the standards contained in Third Edition of the International Special Committee on Radio Interference (CISPR), Pub. 22, “Information Technology Equipment—Radio Disturbance Characteristics—Limits and Methods of Measurement” (incorporated by reference, see § 15.38). In addition:

* * * * *

3. Section 15.118 is amended by revising paragraph (b) to read as follows:

§ 15.118 Cable ready consumer electronics equipment.

* * * * *

(b) Cable ready consumer electronics equipment shall be capable of receiving all NTSC or similar video channels on channels 1 through 125 of the channel allocation plan set forth in EIA IS-132: “Cable Television Channel Identification Plan” (incorporated by reference, see § 15.38).

* * * * *

4. Section 15.120 is amended by revising paragraph (d)(1) to read as follows:

§ 15.120 Program blocking technology requirements for television receivers.

* * * * *

(d) * * *

(1) Analog television receivers will receive program ratings transmitted pursuant to EIA-744: “Transport of Content Advisory Information Using Extended Data Service (XDS)” (incorporated by reference, see § 15.38) and EIA-608: “Recommended Practice for Line 21 Data Service” (incorporated by reference, see § 15.38). Blocking of programs shall occur when a program rating is received that meets the pre-determined user requirements.

* * * * *

5. Section 15.122 is amended by revising paragraph (b) to read as follows:

§ 15.122 Closed caption decoder requirements for digital television receivers and converter boxes.

* * * * *

(b) Digital television receivers and tuners must be capable of decoding closed captioning information that is delivered pursuant to EIA-708-B: “Digital Television (DTV) Closed Captioning” (incorporated by reference, see § 15.38).

* * * * *

PART 76—MULTICHANNEL VIDEO AND CABLE TELEVISION SERVICE

6. The authority for part 76 is revised to read as follows:

Authority: 47 U.S.C. 151, 152, 153, 154, 301, 302a, 303, 303a, 307, 308, 309, 312, 317, 325, 338, 339, 503, 521, 522, 531, 532, 533, 534, 535, 536, 537, 543, 544, 544a, 545, 548, 549, 552, 554, 556, 558, 560, 561, 571, 572, and 573.

7. Section 76.605 is amended by revising paragraph (a)(1)(ii) to read as follows:

§ 76.605 Technical Standards.

* * * * *

(a) * * *

(1) * * *

(ii) Cable television systems shall transmit signals to subscriber premises equipment on frequencies in accordance with the channel allocation plan set forth in EIA IS-132: “Cable Television Channel Identification Plan” (incorporated by reference, see § 76.602). This requirement is applicable on May 31, 1995, for new and re-built cable systems, and on June 30, 1997, for all cable systems.

* * * * *

[FR Doc. 04-1127 Filed 1-20-04; 8:45 am]

BILLING CODE 6712-01-P